DEPARTMENT OF DEFENSE

Office of the Secretary

Submission for OMB Review; Comment Request

ACTION: Notice.

The Department of Defense has submitted to OMB for clearance, the following proposal for collection of information under the provisions of the Paperwork Reduction Act (44 U.S.C. Chapter 35).

Title and OMB Number: Survey of Prescribers in Military Treatment Facilities and TRICARE Contracts; OMB Number 0720-[To Be Determined].

Type of Request: New Collection.

Number of Respondents: 900.

Responses Per Respondent: 1.

Annual Responses: 900.

Average Burden Per Response: 20 minutes.

Annual Burden Hours: 300.

Needs and Uses: A confidential survey will be completed at two points in time, before and after the implementation of the new uniform formulary program by the Department of Defense, by prescribers working for Military Treatment Facilities (MTFs) and TRICARE contractors. The two surveys will collect information to be used to assess their experiences prescribing formulary and non-formulary medications. This information will inform future implementation and enforcement of the uniform formulary system within the Military Health System as mandated by Congress.

Affected Public: Individuals or Households.

Frequency: On Occasion.

Respondent's Obligation: Voluntary.

OMB Desk Officer: Mr. Stuart Shapiro.

Written comments and recommendations on the proposed information collection should be sent to Mr. Shapiro at the Office of Management and Budget, Desk Officer for DoD Health Affairs, Room 10235, New Executive Office Building, Washington, DC 20503.

DoD Clearance Officer: Mr. Robert Cushing.

Written requests for copies of the information collection proposal should be sent to Mr. Cushing, WHS/DIOR, 1215 Jefferson Davis Highway, Suite 1204, Arlington, VA 22202-4302.

Dated: April 11, 2001.
Patricia L. Toppings,
Alternate OSD Federal Register Liaison Officer, Department of Defense.

[FR Doc. 01-9541 Filed 4-17-01; 8:45 am]

BILLING CODE 5001-10-M